DEPARTMENT OF JUSTICE

Notice of Lodging of Consent Decrees Pursuant to the Comprehensive Environmental Response, Compensation, and Liability Act

In accordance with Departmental policy, the Department of Justice gives notice that two proposed consent decrees in the case captioned United States v. Avanti Development, Inc., et al., Civil Action No. IP01-402-C-B/S (S.D. Ind.) were lodged with the United States District Court for the Southern District of Indiana on March 26, 2001. The proposed consent decrees relate to the Avanti Superfund Site (the “Site”) in Indianapolis, Indiana.

The proposed consent decrees would resolve certain civil claims of the United States for recovery of unreimbursed past response costs under Section 107 of the Comprehensive Environmental Response, Compensation, and Liability Act, as amended, 42 U.S.C. 9607, against the following defendants: Avanti Development, Inc.; Big V Associates; Quemetco, Inc., RSR Corporation, and Quemetco Metals, Ltd. f/k/a Murph Metals, Inc., f/k/a Southern Lead Corp. (and their alleged predecessors Western Lead Products Co. and Indiana Smelting Corp.); The Doe Run Resources Corp. (f/k/a St. Joe Minerals Corp.); Oxide and Chemical Corp., American Oxide Corp., Indiana Oxide Corp., and Oxide Services Corporation d/b/a O&C Corporation; Johnson Controls, Inc. and Johnson Controls Battery Group, Inc. (as successor to Globe Union, Inc.); Brodey & Brodey, Inc.; Honeywell International Inc. (f/k/a AlliedSignal Inc., f/k/a Allied Corporation, f/k/a Allied Chemical Corporation, as successor to the Prestolite Division of Eltra Corporation); Exide Corporation and General Battery Corporation; J. Solotken & Company, Inc.; Ace Battery, Inc.; Alter Barge Line, Inc. (and its corporate affiliates Alter Co., Alter Trading Corp., and Alter Trading Co., L.C.); Indiana Battery Co., Inc.; The Recycling Group, Inc. (as the alleged successor to Fred Schuchman Co., Schuchman Metals, Inc., SMI Industries, Inc., Langsdale Metals, Inc, Indianapolis Materials Recycling Facility, Inc., J. Kasle & Sons, Inc, Kasle Recycling, Inc., and Kasle Recycling Metallic Resources Corp.); SW Industries, Inc.; Oscar Winski Co., Inc.; Sugar Creek Scrap, Inc.; TDY Holdings, LLC and TDY Industries, Inc. (as the alleged successors to A.H. Wirz Co. or A.J. Wirz Co.); and SARCO, Inc. (as alleged successor to J. Kasle & Sons, Inc, Kasle Recycling, Inc., and Kasle Recycling Metallic Resources Corp.) and Barry Schuchman, individually. Taken together, the two proposed consent decrees—captioned “Consent Decree with Settling Landowners” and “Consent Decree with Non-Landowner Settling PRPs”—would provide for payment of $1.24 million toward the United States' past response costs associated with the Site.

For a period of thirty (30) days from the date of this publication, the Department of Justice will receive comments relating to the proposed consent decrees. Comments should be addressed to the Assistant Attorney General, Environment and Natural Resources Division, United States Department of Justice, Washington, D.C. 20530, and should refer to United States v. Avanti Development, Inc., et al., Civil Action No. IP01-402-C-B/S (S.D. Ind.), and DOJ Reference No. 90-11-3-06099.

The proposed consent decrees may be examined at: (1) The Office of the United States Attorney for the Southern District of Indiana, 10 West Market Street, Suite 2100, Indianapolis, Indiana 46204 (contact Harold Bickham (317-226-6333)); and (2) the United States Environmental Protection Agency (Region 5), 77 West Jackson Boulevard, Chicago, Illinois 60604 (contact Kevin Chow (312-353-6181)). Copies of the proposed consent decrees may also be obtained by mail from the Department of Justice consent Decree Library, P.O. Box 7611, Washington, DC 20044. In requesting copies, please refer to the above-referenced case name and DOJ Reference Number, and enclose a check made payable to the Consent Decree Library for $26.25 for both consent decrees (105 pages at 25 cents per page reproduction cost), $9.50 for the “Consent Decree with Settling Landowners only (38 pages at 25 cents per page), or $16.75 for the “Consent Decree with Non-Landowner Settling PRPs” only (67 pages at 25 cents per page).

W. Benjamin Fisherow,
Deputy Chief, Environmental Enforcement Section, Environment and Natural Resources Division.

[FR Doc. 01-8578 Filed 4-6-01; 8:45 am]

BILLING CODE 4410-15-M